NATIONAL AERONAUTICS AND SPACE ADMINISTRATION

14 CFR Part 1260

RIN 2700-AC53

NASA Grant and Cooperative Agreement Handbook—Limitations on Incremental Funding and Deobligations on Grants, and Elimination of Delegation of Closeout of Grants and Cooperative Agreements to Office of Naval Research (ONR); Correction

AGENCY: National Aeronautics and Space Administration

ACTION: Final rule; correction.

SUMMARY: NASA published a final rule document in the Federal Register of Tuesday, May 7, 2002 (FR DOC. 02-11167) to revise the threshold for incrementally funding grants and to establish dollar thresholds for incremental funding and funding deobligation actions under grants. This document corrects the RIN number, which was incorrect in that rule.

DATES: Effective on May 7, 2002.

FOR FURTHER INFORMATION CONTACT: Rita Svarcas, NASA Headquarters, Code HC, Washington, DC, (202) 358-0464, e-mail: rsvarcas@hq.nasa.gov.

SUPPLEMENTARY INFORMATION: In the rule document published on page 30544 in the Federal Register of Tuesday, May 7, 2002, The RIN number is corrected to read “RIN 2700-AC53.”

Scott Thompson,
Acting Assistant Administrator for Procurement.

[FR Doc. 02-14160 Filed 6-5-02; 8:45 am]

BILLING CODE 7510-01-P